FEDERAL COMMUNICATIONS COMMISSION

Radio Broadcasting Services; AM or FM Proposals To Change the Community of License

AGENCY: Federal Communications Commission.

ACTION: Notice.

SUMMARY: The following applicants filed AM or FM proposals to change the community of license: BRYAN BROADCASTING CORPORATION, Station KWBC, Facility ID 40912, BP-20100712ABU, From NAVASOTA, TX, To COLLEGE STATION, TX; CUMULUS LICENSING LLC, Station KNRQ-FM, Facility ID 12501, BMPH-20100805AKO, From TUALATIN, OR, To ALOHA, OR; IORIO BROADCASTING, INC., Station WNAE-FM, Facility ID 164188, BPH-20100728ABK, From CLARENDON, PA, To WATTSBURG, PA; LIFELINE MINISTRIES, INC., Station WGTI, Facility ID 173, BPH-20100804AAU, From DUCK, NC, To WINFALL, NC; LIGHT OF LIFE COMMUNITY, INC., Station WLOL-FM, Facility ID 172639, BMPED-20100722BOH, From MORGANTOWN, WV, To STAR CITY, WV.

DATES: Comments may be filed through October 22, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. 2010-20912 Filed 8-20-10; 8:45 am]

BILLING CODE 6712-01-P